DEPARTMENT OF HEALTH AND HUMAN SERVICES

Office of the Secretary

[Document Identifier: HHS-OS-0937-0166-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0937-0166, scheduled to expire on October 31, 2015. Comments submitted during the first public review of this ICR will be provided to OMB. OMB will accept further comments from the public on this ICR during the review and approval period.

DATES: Comments on the ICR must be received on or before October 14, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0937-0166 and document identifier.

Information Collection Request Title: HHS 42 CFR part 50, subpart B; Sterilization of Persons in Federally Assisted Family Planning Projects—OMB No. 0937-0166-Extension-OASH, Office of Population Affairs—Office of Family Planning.

Abstract: This is a request for extension of a currently approved collection for the disclosure and record-keeping requirements codified at 42 CFR part 50, subpart B (“Sterilization of Persons in Federally Assisted Family Planning Projects”). The consent form solicits information to assure voluntary and informed consent to persons undergoing sterilization in programs of health services which are supported by federal financial assistance administered by the Public Health Service (PHS). Consent forms are signed by individuals undergoing a federally funded sterilization procedure and certified by necessary medical authorities. Forms are incorporated into the patient's medical records and the agency's records. Through periodic site audits and visits, PHS staff review completed consent forms to determine compliance with the regulation. Thus, the purpose of the consent form is twofold. First, it serves as a mechanism to ensure that a person receives information about sterilization and voluntarily consents to the procedure. Second, it facilitates compliance monitoring. The Sterilization Consent Form has been revised to reflect a new expiration date on the Required Consent Form. There are no other revisions to the form.

Likely Respondents: Interested persons who desire to send comments regarding this burden estimate or any other aspect of this collection of information that OS specifically requests comments.

Total Estimated Annualized Burden—Hours
Type of respondent | Information collection | Number of respondents | Number of responses per respondent | Average burden per response | Total hours
Citizens Seeking Sterilization | Information Disclosure for Sterilization Consent Form | 100,000 | 1 | 1 | 100,000
Citizens Seeking Sterilization | Record-keeping for Sterilization Consent Form | 100,000 | 1 | 15/60 | 25,000
Total |  |  |  |  | 125,000

Darius Taylor,
Information Collection Clearance Officer.

[FR Doc. 2015-23024 Filed 9-11-15; 8:45 am]

BILLING CODE 4150-34-P